DEPARTMENT OF TRANSPORTATION

National Highway Traffic Safety Administration

49 CFR Part 571

[Docket No. NHTSA-2005-22113]

RIN 2127-AI09

Federal Motor Vehicle Safety Standards; Controls, Telltales and Indicators

AGENCY: National Highway Traffic Safety Administration (NHTSA), Department of Transportation (DOT).

ACTION: Final rule.

SUMMARY: In this document, we update our standard regulating motor vehicle controls, telltales and indicators. The standard specifies requirements for the location, identification, and illumination of these items. This rule extends the standard's telltale and indicator requirements to vehicles with a Gross Vehicle Weight Rating (GVWR) of 4,536 kg (10,000 pounds) and greater, updates the standard's requirements for multi-function controls and multi-task displays to make the requirements appropriate for advanced systems, and reorganizes the standard to make it easier to read. The standard requires, among other things, that certain controls, telltales and indicators be identified by specified symbols or words. While we proposed to expand the list of items for which specified identification is required, we decided, for purposes of this rule, to include only the items and identification previously specified in this standard or in another of our standards.

DATES: Effective date: The effective date for this final rule is February 13, 2006. Compliance date: The compliance date for the extension of the standard's telltale and indicator requirements to vehicles with a GVWR of 4,536 kg (10,000 pounds) or greater is September 1, 2013. The compliance date for all other requirements is February 13, 2006. Voluntary compliance is permitted immediately.

Petitions for reconsideration: Petitions for reconsideration of the final rule must be received not later than October 3, 2005.

ADDRESSES: Petitions for reconsideration of the final rule must refer to the docket and notice number set forth above and be submitted to the Administrator, National Highway Traffic Safety Administration, 400 Seventh Street, SW., Washington, DC 20590, with a copy to Docket Management, Room PL-401, 400 Seventh Street, SW., Washington, DC 20590.

FOR FURTHER INFORMATION CONTACT: For non-legal issues you may call Ms. Gayle Dalrymple, Office of Crash Avoidance Standards at (202) 366-5559. Her FAX number is (202) 366-7002. For legal issues, you may call Ms. Dorothy Nakama, Office of the Chief Counsel at (202) 366-2992. Her FAX number is (202) 366-3820. You may send mail to both of these officials at National Highway Traffic Safety Administration, 400 Seventh St., SW., Washington, DC, 20590.

SUPPLEMENTARY INFORMATION:

Table of Contents

I. Background

II. Notice of Proposed Rulemaking of September 2003

A. Standardizing Identifying Symbols for Additional Controls and Displays

B. Updating Identification Requirements for Advanced Multi-Function Controls With Remote Displays

C. Harmonizing With Canadian and International Standards

III. Public Comments and NHTSA's Response

A. New Definitions

1. “Adjacent”

2. “Common space”

3. “Control”

4. “Indicator”

5. “Multi-function control” and “Multi-task display”

6. “Telltale”

B. Applicability to Vehicles of 4,536 kg (10,000 lb) or Greater GVWR

C. Illumination, and Visibility Requirements Under Daylight and Nighttime Conditions

D. Proposed New Tables

E. Common Space for Displaying Multiple Messages

F. Identification of Multi-function Controls

G. No Conforming Amendments to Other Standards

H. Location and Visibility Requirements

I. Other Issues

1. Combining Controls

2. Color

IV. Leadtime and Costs

V. Final Rule

VI. Statutory Bases for the Final Rule

VII. Regulatory Analyses and Notices

A. Executive Order 12866 and DOT Regulatory Policies and Procedures

B. Regulatory Flexibility Act

C. National Environmental Policy Act

D. Executive Order 13132 (Federalism)

E. Executive Order 12988 (Civil Justice Reform)

F. Paperwork Reduction Act

G. National Technology Transfer and Advancement Act

H. Unfunded Mandates Reform Act of 1995

I. Plain Language

J. Regulation Identifier Number (RIN)

Final Regulatory Text

I. Background

NHTSA issued the original version of Federal Motor Vehicle Safety Standard (FMVSS) No. 101, Controls and Displays, in 1967 (32 FR 2408) as one of the initial FMVSSs. The standard applies to passenger cars, multipurpose passenger vehicles (MPVs), trucks, and buses.¹ The purpose of FMVSS No. 101 is to assure the accessibility and visibility of motor vehicle controls and displays under daylight and nighttime conditions, in order to reduce the safety hazards caused by the diversion of the driver's attention from the driving task, and by mistakes in selecting controls.

¹ At present, the standard's requirements for displays do not apply to vehicles 4,536 kilograms (10,000 pounds) or more GVWR. However, this final rule extends the Standard's requirements for displays to those vehicles.

At present, FMVSS No. 101 specifies requirements for the location (S5.1), identification (S5.2), and illumination (S5.3) of various controls and displays. It specifies that those controls and displays must be accessible and visible to a driver properly seated wearing his or her safety belt. Table 1, “Identification and Illumination of Controls,” and Table 2, “Identification and Illumination of Displays,” indicate which controls and displays are subject to the identification requirements, and how they are to be identified, colored, and illuminated.

II. NPRM of September 2003

On September 23, 2003, NHTSA published in the Federal Register (68 FR 55217) ² a notice of proposed rulemaking (NPRM) to modernize FMVSS No. 101. Two primary concerns were behind the proposal. The first was the standardization of identifying symbols for additional controls and displays, and the second was updating identification requirements for advanced multi-function controls with remote displays. In addition, the NPRM sought to harmonize FMVSS No. 101 with a draft Global Technical Regulation on controls and displays that the United States and Canada had sponsored jointly. Each of these issues is discussed below.

² DOT Docket No. NHTSA-03-16194.

A. Standardizing Identifying Symbols for Additional Controls and Displays

In the NPRM, we tentatively concluded that requiring vehicle controls and displays to be consistently identified by means of an internationally recognized set of graphics in all vehicles would promote safety. We believed that this was particularly important as the controls and displays in vehicles increase in number and complexity and that the consistent use in all new motor vehicles of a single symbol for each function would increase the recognition of that function among all drivers. Moreover, the internationally recognized symbols are independent of any particular language.

The function of FMVSS No. 101 is not to limit or regulate the number of controls, telltales and indicators in vehicles but to ensure that when a regulated control, telltale, or indicator is provided, it is properly identified. Whether that identification is a word, an abbreviation, or a graphic, it is a means of representing a specific vehicle function or condition. We tentatively concluded that, in response to the increase in the number of controls in vehicles, it would be desirable to require each control to be labeled with the same symbol in every vehicle in order to minimize driver confusion and distraction. We believed that, after a period of learning by drivers, symbols would be generally recognized as to the function or condition they represent. The foregoing considerations led us to propose the use of graphic symbols that were, with a few exceptions (that were discussed in the NPRM), the same as that specifically established by the International Standards Organization (ISO) for controls and displays in motor vehicles, ISO 2575:2000.

B. Updating Identification Requirements for Multi-function Controls With Remote Displays

In the NPRM, we tentatively concluded that there was a need to amend FMVSS No. 101 in response to the development and increased use of advanced multi-function controls linked to a display screen remote from the control itself to convey information to drivers about the status of multiple vehicle systems and means of controlling those systems. This was partially in response to a petition for rulemaking from the Alliance of Automobile Manufacturers (Alliance). We stated our belief that FMVSS 101's current requirement that the identification for controls “be placed on or adjacent to the control” restricts unnecessarily the design of these types of systems. Accordingly, we proposed two new definitions and a limited exclusion from the adjacency requirement to accommodate those systems. The proposed definitions were:

Multi-function control means a control through which the driver may select, and affect the operation of, more than one vehicle function.

Multi-task display means a display on which more than one message can be shown simultaneously.

The proposed exclusion to the adjacency requirement of S5.1.3 was:

S5.1.4 The requirement of S5.1.3 does not apply to a multi-task control, provided:

(a) The control is depicted in an associated multi-task display,

(b) The associated multi-task display is visible to the driver under the conditions of S5.6.1 and S5.6.2, and

(c) All of the vehicle systems for which control is possible from the multi-task control are identified in the associated multi-task display. Subfunctions of the available systems need not be shown on the top-most layer of the multi-task display.

C. Harmonizing With Canadian and International Standards

Another topic of the NPRM was international harmonization of controls and displays standards. NHTSA consulted with Transport Canada (Canada's counterpart to the U.S. Department of Transportation) in the late 1990s about Canada's controls and displays standard, i.e., Canadian Motor Vehicle Safety Standard 101. The joint goal of NHTSA and Transport Canada in these talks was to develop potential revisions to their respective standards so that, consistent with safety needs, they would be better organized, easier to understand, and consistent with the positions of the U.S., Canada, and European standards organizations. The NPRM was based in part on that collaboration.

The United States participates in the United Nations/Economic Commission for Europe World Forum for Harmonization of Vehicle Regulations (also known as Working Party 29 or WP. 29) under a 1998 Agreement known as the 1998 Global Agreement. The 1998 Global Agreement provides for the establishment of global technical regulations (GTRs) regarding the safety, emissions, energy conservation and theft prevention of motorized wheeled vehicles, equipment and parts. The Agreement contains procedures for establishing global technical regulations by either harmonizing existing regulations or developing new ones.

On July 18, 2000, in anticipation of the 1998 Global Agreement's entry into force, NHTSA published a request for public comments on the agency's list of preliminary recommendations of standards or aspects of standards for consideration by the Contracting Parties to the Agreement in prioritizing the development and establishment of GTRs under the Agreement (65 FR 44565). One of NHTSA's preliminary recommendations in the notice concerned controls and displays. In March 2002, WP. 29 adopted a work program of initial priorities for development of GTRs under the 1998 Global Agreement that included controls and displays. The regulatory text proposed in the NPRM was essentially the same as the draft GTR at that time.

The United States continues to participate in the development of a GTR on controls and displays. At such time as there is a final GTR on controls and displays, we will consider it in accordance with the 1998 agreement.

III. Public Comments and NHTSA's Response

In response to the NPRM, NHTSA received comments from: AAA; Advocates for Highway and Auto Safety; Alliance of Automobile Manufacturers (Alliance); American Honda Motor Co., Inc.; American Trucking Associations (ATA); Applied Safety and Ergonomics, Inc.; Association of International Automobile Manufacturers, Inc. (AIAM); Bendix Commercial Vehicle Systems LLC; BMW Group; Blue Bird Company; Fed Ex; General Motors North America; Hino Motors, Ltd.; Honda Motor Company, Ltd. (in Tokyo); ISO TC22/SC13 WG5; Mr. Mac B. Johnson; National Automobile Dealers Association; Public Citizen; Ms. Barb Sachau; Truck Manufacturers Association (TMA); Mr. Frank D. Werner; and Western Ergonomics.

Most of the commenters addressed the proposal to include an expanded set of controls, telltales, and indicators in Tables 1 and 2, and the identification to be used for those items. Many commenters opposed the proposed expansion of the items to be regulated and identifying symbols, and provided detailed comments on many of the proposed symbols. Comments were also received on the issue of regulating multi-function controls and multi-task displays, especially in relation to the S5.13 requirement that identifications for controls, telltales and indicators must be placed “on or adjacent to the telltale, indicator or control that it identifies.” The comments addressing this issue generally were in favor of it, with several recommending minor changes to the proposed regulatory text.

After considering the public comments, we have decided to adopt a provision to provide a limited exclusion for multi-function controls from the standard's requirement that identification be “on or adjacent” to the control. We made some changes to the proposed provision in light of the comments.

We are also extending FMVSS No. 101's display requirements to vehicles with GVWRs of 4,536 kg (10,000 pounds or greater). The compliance date for this extension is September 1, 2013.

We decided not to expand at this time the symbols or other items listed in FMVSS No. 101, other than adding items already included in other FMVSSs. While we may revisit this issue in a future rulemaking, we would want to conduct additional analyses and possibly research relating to issues raised by the commenters. We will continue to regulate the same controls, telltales and indicators as are presently specified in Tables 1 and 2 in FMVSS No. 101 or in another Federal motor vehicle safety standard, and to specify the same symbols or words. The format of the tables is changed so that in this final rule, Table 1 specifies the identifiers for controls, telltales and indicators that have color or illumination requirements, while Table 2 specifies the identifiers for controls, telltales and indicators that have no color or illumination requirements.

The primary issues raised by NHTSA in the NPRM, the public comments, and NHTSA's response to the comments, are discussed below.

A. New Definitions

In S4, Definitions, after considering all public comments received on each of the proposed new definitions, NHTSA has adopted as final the following new or amended definitions:

1. “Adjacent”—At present, the term “adjacent” appears in FMVSS No. 101's “Identification” section at S5.2.1(a): “The identification appears on or adjacent to the control” and at S5.2.3: “The identification required or permitted by this section shall be placed on or adjacent to the display that it identifies.” The word “adjacent” is not presently defined in FMVSS No. 101. In the past, the term “adjacent” has been the subject of several requests for interpretation of what “adjacent” means for controls that are identified by images that appear on a digital display screen. In the September 2003 NPRM, we proposed to define “adjacent” as:

Adjacent, with respect to a symbol identifying a control, telltale or indicator, means:

(a) The symbol is in close proximity to the control, telltale or indicator; and

(b) No other control, telltale, indicator, identifying symbol or source of illumination appears between the identifying symbol and the telltale, indicator, or control that the symbol identifies.

We explained that this definition of “adjacent” would put into the regulatory text the definition of “adjacent” that we have used in FMVSS No. 101 interpretation letters such as a June 8, 2000 letter to an unidentified company, and a February 27, 2001 letter to Mazda North American Operations.

In its comments, Western Ergonomics, Inc. (WEI) suggested that the term “close proximity” (used in paragraph (a) of the definition) be defined: “* * *in terms of the visual angle between symbol and control, as defined relative to driver's eye location.” We have decided not to adopt this suggestion. We believe the meaning of “close proximity” is sufficiently clear without additional language. Therefore, the definition of “adjacent,” as proposed in the NPRM, is adopted in the final rule.

2. “Common space”—At present, “common space” is used but not defined in FMVSS No. 101. In the September 2003 NPRM, we proposed to define “common space” as: “an area on which more than one telltale, indicator, identifier or other message may be displayed, but not simultaneously.” The proposed definition was intended to address designs in which a “common space” is used to display more than one warning, message or identification, but not simultaneously. No commenter commented on the proposed definition and, in this final rule, we adopt as final, the definition of “common space” proposed in the NPRM.

3. “Control”—At present, FMVSS No. 101 regulates both hand-operated controls and foot-operated controls. However, the requirement for foot-operated controls are very limited. Specifically, FMVSS No. 101 requires that certain foot-operated controls, i.e., those for service brake, accelerator, clutch, high beam, windshield washer and windshield wiper, must be operable by the driver.

In the September 2003 NPRM, we proposed to limit the term “control” (and thus FMVSS No. 101 itself), to hand-operated controls because we were unaware of any current vehicles whose high beam, or windshield washer or wiper controls are foot-operated and because we saw no need, as a practical matter, to include a requirement that service brakes, accelerators, and clutches be operable by the driver.

Federal Express and the American Trucking Association (ATA) did not agree with NHTSA's distinguishing between hand and foot controls, as “a control is a control regardless of hand or foot activated.” Noting that while accelerators and clutches do not always have indicators on the dash, ATA stated that a truck service brake does have an indicator light/release light on the dash—some are hand and some are foot-activated, but both are activated by the driver and deactivated by the driver.

NHTSA notes that there is a distinction between “indicators” and “controls.” It is the service brake indicator that must always appear “in view of the driver.”

We further note that defining “controls” as hand-operated makes repeating “hand-operated” unnecessary whenever the word “control” is used in FMVSS No. 101. We received no public comment informing us of any current vehicles with high beam, windshield washer or wiper controls that are foot operated. We continue to see no need, as a practical matter, to include a requirement that service brakes, accelerators, and clutches be operable by the driver. Therefore, in this final rule, NHTSA adopts the definition of “control” proposed in the NPRM.

4. “Indicator”—In the September 2003 NPRM, we proposed to use “indicator” to replace the term “gauge” because “gauge” connotes an analog display whereas “indicator” does not. We proposed to define “indicator” as “a device that shows the magnitude of physical characteristics that the instrument is designed to sense.” No commenter addressed the proposed definition, and in this final rule, NHTSA adopts the definition of “indicator” proposed in the NPRM.

5. “Multi-function control” and “multi-task display.” As discussed earlier, in the September 2003 NPRM, we proposed definitions of “multi-function control” and “multi-task display” to address advanced vehicle designs that use controls that select several different vehicle functions and display information about those functions on a display that is remote from the control. A multi-function control was proposed to be defined as: “a control through which the driver may select, and affect the operation of, more than one vehicle function.” A multi-task display was proposed to be defined as: “a display on which more than one message can be shown simultaneously.”

6. “Telltale”—In the September 2003 NPRM, we proposed to define “telltale” as an “optical signal that, when illuminated, indicates the actuation of a device, a correct or improper functioning or condition, or a failure to function.” No commenter addresses the proposed definition, and in this final rule, NHTSA adopts the definition of “telltale” proposed in the NPRM.

B. Applicability to Vehicles of 4,536 kg (10,000 Pounds) or Greater GVWR

At present, S5 of FMVSS No. 101 excludes vehicles of 4,536 kg (10,000 pounds) or greater GVWR from its location, illumination, and color requirements for displays. We proposed to extend the standard's display requirements to these vehicles to ensure that drivers are able to see and identify their displays as easily as do drivers of lighter vehicles.

In response to the NPRM, the American Trucking Association (ATA) recommended that vehicles with GVWRs of 4,536 kg (10,000 pounds) or greater continue to be excluded from the display requirements of FMVSS No. 101. ATA commented that NHTSA did not present data regarding the safety benefits of enacting the proposed rules and that the compliance costs are not trivial:

Tooling and redesign costs of traditional switchgear, controls and displays are not amortized over the life of one model cycle. They continue to be used over many cycles and thus, by forcing manufacturers to redesign their controls it will increase the design, development, documentation, training, maintenance, and repair costs of all parties involved.

While we have considered ATA's comment, we continue to believe that there is a safety need for drivers of heavier vehicles to see and identify their displays, just as there is for drivers of lighter vehicles.

We note, however, that since (for reasons discussed below) Tables 1 and 2 include far fewer controls, telltales and indicators than proposed in the NPRM (and none of the ones exclusive to vehicles of 4,536 kg GVWR and over), the costs of meeting the requirements in this final rule are lessened considerably. Moreover, to address concerns about costs, since vehicles of 4,536 kg (10,000 pounds) or greater GVWR have longer redesign cycles than do lighter passenger vehicles, we are providing an eight-year lead time for heavy vehicle compliance with the requirements for telltales and indicators.

C. Illumination, and Visibility Requirements Under Daylight and Nighttime Conditions

The present language of FMVSS No. 101 at S.5.3.3(a) states that means shall be provided for making controls, gauges, and the identification of those items “visible to the driver under all driving conditions.” In the September 2003 NPRM, we proposed the narrower language “visible * * * under daylight and nighttime conditions” because under some extreme lighting conditions (e.g. driving directly into a sunrise or sunset), it is virtually impossible to make illuminated items (even after adjusting the level of illumination) or non-illuminated items visible to the driver. NHTSA stated its belief that, for the most part, the instances in which the driver cannot see symbols are of short duration, and therefore would not cause a safety problem if the telltales and/or their identifiers were not visible to the driver during that short time period.

Commenting on the NPRM, and addressing illumination in general, Mr. Mac Johnson commented that paragraph (e) of S5.3.1 Timing of illumination should be “liberalized” to permit the telltales to be illuminated at more times than just the malfunctions or vehicle conditions the telltales are designed to indicate, or when the propulsion system is activated. According to Mr. Johnson, FMVSS No. 101 should be expanded to allow the manufacturer the option of including a “manual test” of any telltale or group of telltales while electrical power is on. Being able to test subsets of all the telltales allows the driver to see where each is located and what each looks like. NHTSA has accommodated Mr. Johnson's suggestion by deleting the words “upon propulsion system activation” from S5.3.1.(e).

Hino Motors asked for an exclusion from illumination requirements when the control is “located on the floor, floor console, steering wheel, or steering column, or in the area of windscreen [windshield] header, or to controls for heating and air conditioning system if the system * * * does not direct air directly upon the windscreen.” We note that this exclusion was included in the NPRM at S5.3.1(a) at p. 55227 in the Federal Register. In this final rule, Hino Motors will find the requested exemption for the specified controls from the illumination requirements at S5.3.1(a) in the second sentence.

TMA asked NHTSA to clarify if it will continue to allow, for controls and indicators, adjustment of brightness to a level that is not visible to a seated driver. NHTSA's response is that the language at S5.3.3(b)(3) allowing “levels of brightness at which [controls, gauges and the identification of those items] are not visible” was removed to clean up the regulatory text. The language at S5.3.3(b)(3) requires two levels of brightness, and describes those required levels. It should be clear that the manufacturer may provide as many additional levels of brightness as it desires. However, the language was of long standing in FMVSS No. 101, so to avoid confusion, in this final rule, the language is restored at S5.3.2.2(d).

Blue Bird recommended that “every illumination system contain manual controllability, even though an automatic system is incorporated.” We note that, as discussed above, we are including certain language in S5.3.2.2(d) that is currently part of the standard but was omitted from the proposal. S5.3.2.2(d)(1) states: “If the level of brightness is adjusted by automatic means to a point where those items or their identification are not visible to the driver, means shall be provided to enable the driver to restore visibility.”

After considering the comments, we are adopting the proposed language at S5.3.2.1 that means shall be provided for illuminating the indicators, identifications of indicators and identifications of controls listed in Table 1 to make them “visible to the driver under daylight and nighttime driving conditions.”

D. Proposed New Tables

In the NPRM we proposed two tables, each of which would include both controls and displays. In Table 1, we proposed to specify symbols, color requirements, and whether illumination is required for controls, telltales, and indicators for which we proposed illumination or color requirements. We noted that the proposed requirement reflected requirements already in FMVSS No. 101, Canadian Motor Vehicle Safety Standard No. 101, ECE 78/316, or are included in the draft GTR on “Hand controls, telltales, and indicators.”

We also proposed Table 2, which would specify symbols for controls, telltales, and indicators other than those listed in proposed Table 1. Table 2 would not include color or illumination requirements. The symbols in each of the proposed tables were essentially identical to the ISO symbols, with a few exceptions. No English words or abbreviations appeared in the proposed tables, except that we proposed that the brake malfunction telltales include the word “Brake” for five years for light vehicles and eight years for heavy vehicles.

The proposed expansion of the FMVSS No. 101 tables was the subject of most of the public comments. In general, the commenters addressing this issue recommended that the agency not expand Tables 1 and 2.

Most of the commenters addressing the proposed tables generally stated the view that symbols would not be as well understood by the driver as English words. Some commenters objected to the number of vehicle functions for which we proposed to require a specific symbol.

After considering the public comments for this final rule, we have decided not to expand at this time the symbols or other items listed in FMVSS No. 101, other than including some items already required by other FMVSSs. While we may revisit this issue in a future rulemaking, we would want to conduct additional analyses and possibly research relating to issues raised by the commenters.

We have, however, decided to adopt the format of the tables proposed in the NPRM, to make identifiers easier to find in the tables. Therefore, in this final rule, for controls, telltales, and indicators, Table 1 specifies identifiers, color requirements and whether illumination is required for a control, telltale, or indicator, and specifies which have illumination or color requirements. Table 2 specifies identifiers for controls, telltales, and indicators other than those listed in Table 1. No color or illumination requirements are specified in Table 2. The final rule at S5.2.3 states: “Supplementary symbols, words, or abbreviations may be used at the manufacturer's discretion for the purpose of clarity in conjunction with any symbol, word, or abbreviation specified in Table 1 or Table 2.”

In addition, we are addressing comments made about the following individual symbols proposed in Table 1 or Table 2 in the NPRM:

TMA commented on the “windshield defrosting and defogging system” and “rear window defrosting and defogging system” icons. TMA stated that these “illuminated telltale[s] should be green, not yellow.” NHTSA notes that Table 1 of this final rule specifies identification requirements for controls for the windshield defrosting and defogging system and rear window defrosting and defogging system. (These controls are included in the existing FMVSS No. 101). For these controls, NHTSA specifies illumination, but not a color.

TMA also commented on tire malfunction indicators, including ones indicating low pressure. It stated that provision should be made for a pictogram of a truck or tractor as well as a car.

We note that as part of the agency's April 8, 2005 final rule (67 FR 18136) on Tire Pressure Monitoring Systems (TPMS), we adopted a symbol depicting a car for low tire pressure telltales which identify which tire has low pressure. That rule requires TPMS on “new passenger cars, multi-purpose passenger vehicles, trucks and buses with a gross vehicle weight rating (GVWR) of 4,536 kg (10,000 pounds) or less, except those with dual wheels on an axle.” Thus, there are presently no TPMS requirements for buses or trucks over 4,536 kg, although TPMS could be provided voluntarily for these vehicles. We agree that different identification might be appropriate for telltales for heavy vehicles. Accordingly, we are adding a footnote indicating that the standard's requirements for telltales relating to TPMS apply only to vehicles subject to the TPMS standard.

TMA commented that requiring the odometer to spell out “MILES” instead of “Mi” is overly restrictive. In this final rule, in Table 2, the odometer must specify “kilometers or km,” if the unit of measurement is the kilometer. Otherwise, no identifier is required.

The American Trucking Association (ATA) stated that the automatic vehicle speed indicator does not account for adaptive cruise control systems, which maintain headway in either time or distance from a lead vehicle. Automatic vehicle speed is a control specified in Table 1 of this final rule. The control must be illuminated. In some cases, adaptive cruise controls are not turned on or off by the driver, but are regulated by the vehicle's computer system. NHTSA believes that there is no ambiguity about the systems to which the automatic vehicle speed control entry applies, since the entry is of long standing. Adaptive cruise controls were developed after the automatic vehicle speed control entry was created. Thus, the automatic vehicle speed control entry in Table 1 does not apply to adaptive cruise controls.

ATA also commented that the heating and/or air conditioning fan symbol does not address the need for engine fan switches, which can be controlled by the operator. NHTSA notes that in this final rule, the control is clearly specified in Table 1 as “heating and/or air conditioning fan,” not engine fan. Thus, the Table 1 requirements apply to controls for the fan regulating the vehicle interior's heating and/or air conditioning. The Table 1 requirements do not apply to engine fan controls. Nothing in this final rule prevents manufacturers from labeling the engine fan control as they see fit.

Western Ergonomics, Inc. stated that allowing speedometers to be indicated in km/h as an option, rather than as a requirement (with MPH) is a “mistake,” since many American vehicles are driven in Canada where the speed limits are designated in km/h. We note that although many American cars are driven in Canada, most of them are not. Since speed limits in the U.S. are expressed in MPH, in this final rule we are only requiring speedometers to be indicated in MPH. However, the rule permits manufacturers, at their option, to designate speedometers in MPH and km/h. Americans who drive in Canada (and other parts of the world that use kilometers) can look for the km/h designation in the speedometers before purchasing, leasing, or renting motor vehicles.

E. Common Space for Displaying Multiple Messages

At present, FMVSS No. 101 specifies that a common space may be used to display messages from any source, subject to several requirements. One of the current requirements is that the telltales for the brake, high beam, turn signal, and safety belt (telltales of particular safety significance) may not be shown in the “common space.” This requirement ensures that these telltales, if activated, are always visible to the driver.

In the September 2003 NPRM, we proposed to expand the list of telltales (of particular safety significance) that could be in a common space, but could not share a common space with other specified telltales of particular safety significance, so the list of telltales would include: The telltales for any brake system malfunction; front air bag malfunction; side air bag malfunction; low tire pressure; passenger air bag off; high beam; turn signal; and seat belt. We proposed in the NPRM that if one of these telltales is activated, it is required to displace any other symbol or message in that common space while the underlying condition that caused the telltale's activation exists.

We did not receive any public comments on the proposed changes to the common space for displaying multiple messages. Therefore, in this final rule, we are adding to S5.5.2 the specified telltales of particular safety significance that we proposed in the NPRM. S5.5.2 will read: “The telltales for any brake system malfunction, the air bag malfunction, the side air bag malfunction, low tire pressure, passenger air bag off, high beam, turn signal and seat belt must not be shown in the same common space.” The changes adopted in this final rule continue to ensure that these telltales of particular safety significance, if activated, will always be visible to the driver, but give vehicle manufacturers increased flexibility in instrument panel design.

F. Identification of Multi-Function Controls

As explained in detail in the September 2003 NPRM, over the past several years, we have addressed several requests for interpretation asking how FMVSS No. 101's requirements for identifying controls apply to advanced design concepts that use one control to access many vehicle functions, and that display those functions on a screen that is remote from the control. Our interpretations include one dated June 8, 2000 to a manufacturer whose identity is confidential, a February 28, 2001 interpretation to Mazda, and a January 10, 2002 interpretation to Porsche.

Over the years, we have sought to interpret FMVSS No. 101 in a broad manner, to accommodate new technology. As we explained in our letter to Porsche, however, there is a limit to how much we can do by interpretation as opposed to conducting rulemaking to facilitate the use of new technology.

In the NPRM, we stated our belief that FMVSS No. 101's current requirement that the identification for controls “be placed on or adjacent to the control” has a particular potential to restrict the use of these advanced design concepts. The system that Porsche asked about included a “combination multi-function switch/rotary dial,” similar to a joystick, located on the center console between the driver's seat and the front passenger seat, and a small display screen on the dashboard. The display screen provided the identification for the various functions of the dial, which changed as different functions were selected. Thus, the dial needed to be operated in conjunction with the display screen. As we explained in our letter to Porsche, however, the dial (i.e., the control) and the related display (which provided the identification for functions of the control) could not be considered to be “adjacent,” given the distance between them.

On November 23, 2001, the agency received a petition for rulemaking from the Alliance of Automobile Manufacturers (Alliance) to eliminate the adjacency requirement from the current FMVSS No. 101, S5.2.1(a). The agency granted the petition and, in the September 23, 2003 NPRM, addressed the issues raised in the Alliance petition. The Alliance stated the view that the current language of S5.2.1(a)

* * * has become an inadvertent design restriction on technologically advanced vehicle control and display systems. The Alliance further stated that it believes that such an amendment is needed to facilitate the introduction of advanced vehicle control and display systems that can enhance vehicle safety by reducing the need for a driver to take his or her eyes [off] the roadway to operate multiple vehicle controls and by reducing the potential for driver confusion that could arise from “information overload” from multiple identification symbols on a single control.

The Alliance recommended particular language to be used to replace S5.2.1(a).

In the NPRM, we noted several concerns about the Alliance recommendation and proposed language that would give a limited exclusion from the adjacency requirement if the control is depicted in a display that is located in the driver's view and that clearly shows all functions available from that control. We also proposed a definition for “multi-function control” (as discussed above). Further, we sought comment on issues related to the use of multi-function controls and multi-task displays as well as comment on the proposed regulatory language itself.

The Alliance and GM commented that a requirement that the control be “depicted” in the display (proposed at S5.1.4(a)) is too design restrictive and not technically consistent with the designs of advanced control and display systems. The Alliance stated that the control itself is not depicted in the multi-task display; rather, it is the function being displayed that is depicted.

The Alliance and GM also expressed concern that the proposed language stated that “all” of the vehicle systems for which control is possible from the multi-task control must be identified in the associated multi-task display. They noted that this language appeared to extend to controls that NHTSA does not regulate, such as sound system controls.

These commenters suggested the following language for S5.1.4:

S5.1.4 The requirement of S5.1.3 does not apply to a multi-function control, provided:

(a) The control is associated with a multi-task display,

(b) The multi-task display is visible to the driver under the conditions of S5.6.1 and S5.6.2, and

(c) Each system containing any control listed in column 1 of Table 1 that can be selected from the multi-task control is identified in the associated multi-task display. Subfunctions of the available systems need not be shown on the top-most layer of the multi-task display.

In response to these comments, we believe GM/Alliance's suggested language of “associated with” is insufficient. We believe that the driver must have some visual clue that the display contains information about the functions available from the multifunction control. However, while a depiction of the multi-function control would provide the driver the necessary information, we agree that it is unnecessary to limit the identification to such a depiction. Accordingly, the final rule provides, as one of the conditions that must be met in order for a multi-function control not to be subject to the identification adjacency requirement, that the associated multi-task display must identify the multi-function control with which it is associated graphically or using words. It is up to the manufacturer to decide which identifying graphics or words to use for its design.

As to the identification of the functions operated by the multi-function control, we note that there are many potential designs that manufacturers could use. Some but not all designs may involve multiple layers. A multi-layer design might include several vehicle systems that are depicted on the top-most layer, e.g., climate, navigation, and audio, whose specific control functions are operated by scrolling through one or more subsequent layers. For example, selection of “climate” by a vehicle operator might lead to a second layer depicting heating and cooling, the selection of which leads to a third screen depicting temperature and fan speed.

We agree with the Alliance that it would not be appropriate to require the various subsystems to be depicted on the top-most layer. There would often not be space to depict all such subsystems and, even if there were, identification of numerous subsystems might create a cluttered appearance and cause confusion. Also, recognizing the large variety of potential designs, we want to take care not to establish requirements that may be unnecessarily design-restrictive.

We believe it is appropriate to focus on requirements for the identification to be provided in two situations: (1) the top-most layer of any multi-function control that has layers, and (2) the identification of active functions of controls listed in Tables 1 and 2, i.e., functions that are immediately affected by operation of the control to change the state of the vehicle or subsystem.

Accordingly, for the final rule, S5.1.4 states:

S5.1.4 The requirement of S5.1.3 does not apply to a multi-function control, provided the multi-function control is associated with a multi-task display that:

(a) Is visible to the driver under the conditions of S5.6.1 and S5.6.2,

(b) Identifies the multi-function control with which it is associated graphically or using words,

(c) For multi-task displays with layers, identifies on the top-most layer each system for which control is possible from the associated multi-function control, including systems not otherwise regulated by this standard. Subfunctions of the available systems need not be shown on the top-most layer of the multi-task display, and

(d) Identifies the controls of Table 1 and Table 2 with the identification specified in those tables or otherwise required by this standard, whenever those are the active functions of the multi-function control. For lower levels of multi-task displays with layers, identification is permitted but not required for systems not otherwise regulated by this standard.

As to the Alliance's concern that identification is required for controls that FMVSS No. 101 does not otherwise regulate, we note that, for the final rule, such additional identification is very limited. First, since S5.1.4 simply provides an exception to S5.1.3, it only has application for controls that include functions specifically regulated by FMVSS No. 101. Second, the rule only requires identification of additional items (not otherwise regulated by the standard) for the top-most layer of the associated multi-task display.

We believe that to the extent manufacturers include additional functions (not otherwise regulated by FMVSS No. 101) as part of the same multi-function control that includes items listed in the standard, it would be confusing if those additional functions were not identified. This could make it more difficult for users to operate the control for the items specifically addressed by FMVSS No. 101. However, under the final rule, manufacturers may identify the additional functions in any way they choose, and the requirement only applies to the top-most layer of the associated multi-task display. We do not believe this will be burdensome and, in fact, believe manufacturers would be highly likely to provide such identification in the absence of such a requirement.

We are also requiring that the controls of Table 1 and Table 2 be identified with the identification specified in those tables or otherwise required by the standard, whenever those are the active functions of the multi-function control.

We note that for a multi-task display with layers, paragraph (c) would require identification on the top-most layer of each system for which control is possible from the associated multi-function control, including systems not otherwise regulated by this standard. Paragraph (d) would then require any controls listed in Table 1 and Table 2 to be identified with the identification specified in those tables or otherwise required by this standard, whenever those are the active functions of the multi-function control.

It is possible that there could be one or more intermediate layers that are not active, e.g., layers which are used not to immediately change the state of the vehicle or subsystem but instead take the user to a specific control that is active. We are not specifying identification requirements for such intermediate, non-active layers.

To illustrate this, we will consider the following example of a multi-function control with an associated multi-function display. The top-most layer of the display includes several systems, including climate control.

Figure 1.—Illustrative Example of Systems and Controls Visible on Different Layers of a Multi-Task Display
System or function visible on display | Layer
Climate | 1 (top-most)
Heat, Cool | 2
Temperature Setting Fan Speed | 3

Paragraph (c) would require identification of the climate system on the top-most layer. Since heating and air conditioning system (as well as heating and/or air conditioning fan) are listed in Table 1, paragraph (d) would require the controls to be identified with the identification specified in the table or otherwise required by the standard, whenever they are the active functions of the multi-function control.

As to the second layer, identification would be required if heat/cool were active functions, e.g., if selection of heat/cool activated and deactivated the heating or air conditioning systems. Identification would not be required if selection of heat/cool did nothing more than move the multi-task display to the next level.

As to layer 3, assuming that temperature setting and fan speed are active functions, paragraph (d) would require the controls to be identified with the identification specified in the table or otherwise required by the standard. The table specifies a symbol for heating and/or air conditioning fan control. While the table doesn't specifically mention temperature setting, paragraph S5.2.8 requires identification to be provided for each function of any heating and air conditioning system control, and for the extreme positions of any such control that regulates a function over a quantitative range. If this identification is not specified in the tables, as in this case, it must be in word or symbol form unless color coding is used. If color coding is used to identify the extreme positions of a temperature control, the hot extreme must be identified by the color red and the cold extreme by the color blue.

It is possible that there could be one or more intermediate layers that are not active, e.g., layers which are used not to immediately change the state of the vehicle or subsystem but instead take the user to a specific control that is active. We are not specifying identification requirements for such intermediate, non-active layers.

In its comments, Western Ergonomics, Inc. (WEI) asked whether the multi-function control itself must be labeled if a screen shows all the functions. WEI expressed the view that it “seems appropriate to label the control itself in order for the operator to know which of several controls it is. This is more the case in larger trucks.” In response, NHTSA notes that in the final rule, S5.1.4 excludes all multi-function controls (including the main multi-function control) from the “on or adjacent to” requirement, as long as the control is associated with a multi-task display that meets the specified conditions. Nothing in S5.1.4 prohibits the manufacturer from labeling the main multi-function control to meet the “on or adjacent to” requirement.

American Honda, addressing the issue of multi-function controls, stated that limiting FMVSS No. 101 to only those controls and displays that are related to motor vehicle safety, and are required by other FMVSSs would minimize the issues raised by regulating multi-function controls. American Honda also expressed the view that “it remains important that critical controls, such as ignition switches, gear selection controls, headlight switches, windshield wipers, etc., must remain independent from multi-function controls and instantly accessible at all times.” Regarding American Honda's suggestion that certain controls should not be permitted as part of a multi-function control system, NHTSA notes that since it did not propose, in the NPRM, to prohibit specific controls from being part of a multi-function control system, we are not addressing this issue by regulation at this time.

Federal Express commented that a multi-task display or a multi-function control must provide the driver audible or tactile feedback when a function occurs, so as to minimize the time a driver's focus is on the display. NHTSA notes that the issue of requiring audible or tactile feedback in conjunction with multi-function controls is outside the scope of this rulemaking. However, we note that nothing in FMVSS No. 101 prevents a manufacturer from providing such audible or tactile feedback on a multi-function control system.

G. No Conforming Amendments to Other Standards

In the NPRM, we noted that several other safety standards include requirements that could be affected by the proposed changes to FMVSS No. 101. We stated that we would make any necessary conforming amendments to those standards as part of the final rule amending FMVSS No. 101. In this final rule, because we have decided to keep all the current identifiers for telltales, and have included no new controls, telltales or indicators in Table 1 or Table 2, no conforming amendments to other FMVSSs are necessary. Changes made to FMVSS No. 101 as a result of the April 8, 2005 (67 FR 18136) final rule on Tire Pressure Monitoring Systems (TPMS) are included in this final rule.

H. Location and Visibility Requirements

In response to the NPRM, AIAM recommended that the requirements in FMVSS No. 101 be limited to “safety critical” controls, telltales, and indicators. AIAM stated that a more limited scope would still facilitate international harmonization since manufacturers would not be prohibited from using the international symbols if they chose to do so. AIAM also noted that each control listed in Table 1 must be located so as to be operable by the driver and that S5.1.2 requires that telltales and indicators listed in Table 1 or Table 2 must be visible to the driver. AIAM noted that certain proposed Table 1 or Table 2 items were not intended to be controlled by the driver while the vehicle is in motion. As examples, AIAM cited seat adjustment controls (not necessarily for the driver's seat), child lock controls, and controls for heating and air conditioning systems in the rear compartment areas.

NHTSA notes that, as discussed above, we are limiting FMVSS No. 101 controls to only those that are already specified in Tables 1 or 2, or in another FMVSS. Thus, AIAM's comments are made moot.

I. Other Issues

1. Combining Controls

In the NPRM, NHTSA asked for comment on whether there are any controls which, for safety reasons, should not be combined with other controls. TMA recommended that the parking brake, horn and hood opener controls should not be combined with any other controls. The Alliance stated that it did not believe that there is any need to regulate or restrict the combination of controls unless NHTSA has evidence or reason to believe that the combination of any particular controls would introduce adverse safety consequences.

As NHTSA stated earlier in Subsection F. on multi-function controls, in the NPRM, it did not propose to prohibit the combination of specific controls. NHTSA is not adopting any requirements in this area.

2. Color

In the NPRM, NHTSA proposed language at S5.4.2 that stated: “Any indicator or telltale not listed in Table 1 and any identification of that indicator or telltale must not be a color that masks the driver's ability to recognize any telltale, control or indicator listed in Table 1.” TMA suggested the following alternative language: “Any indicator or telltale not listed in Table 1 and any identification of that indicator or telltale must be in a color that cannot be confused with or that masks any other indicator or telltale listed in Table 1.”

NHTSA notes that TMA's suggested language does not state that indicators or telltales must not be in a color that masks the driver's ability to recognize any telltale, control or indicator listed in Table 1 (emphasis added). Since it believes in the importance of regulating the driver's ability to recognize telltales, controls and indicators, NHTSA will adopt as final the language it proposed at S5.4.2.

IV. Leadtime and Cost

In response to the NPRM, TMA agreed that the proposed eight year lead time for heavy truck manufacturers is appropriate. The Alliance stated that it is “premature” to set an effective date for vehicles to comply with an amended FMVSS No. 101. It was concerned about the proposed requirements for expanded standardized control and display identifications.

We are making the standard effective 180 days after publication, but providing a later compliance date for heavy vehicles.

For light vehicles, the amendments will not require design changes but will instead relieve restrictions. An important purpose of this final rule is to update the standard so that it appropriately addresses advanced multi-function controls. Since NHTSA has ensured that the telltales, indicators and controls specified in Tables 1 and 2 are all presently specified in FMVSS No. 101 or are specified in other FMVSSs, amendments to Tables 1 and 2 should have no substantive effects for manufacturers of vehicles under 4,536 kg GVWR. Moreover, the other changes made to the standard will not require changes to current light vehicles.

Design changes will be required for vehicles with GVWRs of 4,536 kg. (10,000 pounds) or greater, since these vehicles have not previously been subject to FMVSS No. 101's requirements for identification and illumination of displays. In this final rule, we recognize that heavy vehicles have a longer redesign cycle than do passenger vehicles. Thus, for vehicles of 4,536 kg GVWR or greater, the compliance date for the new requirements for telltales and indicators is approximately eight years after publication.

Early voluntary compliance with the provisions of this final rule is permitted immediately.

V. Final Rule

In this final rule, NHTSA amends FMVSS No. 101 as described in the sections above. The new rule extends the standard's telltale and indicator requirements to vehicle of Gross Vehicle Weight Rating (GVWR) 4,536 kilograms (10,000 pounds) and over, updates the standard's requirements for multi-function controls and multi-task displays to make the requirements appropriate for advanced systems, and reorganizes the standard to make it easier to read. Table 1 and Table 2 continue to include only those symbols and words previously specified in the controls and displays standard or in another Federal motor vehicle safety standard. However, both Tables 1 and 2 have been reorganized to make the symbols and words easier to find.

VI. Statutory Bases for the Rulemaking

We have issued this final rule pursuant to our statutory authority. Under 49 U.S.C. Chapter 301, Motor Vehicle Safety (49 U.S.C. 30101 et seq.), the Secretary of Transportation is responsible for prescribing motor vehicle safety standards that are practicable, meet the need for motor vehicle safety, and are stated in objective terms. 49 U.S.C. 30111(a). When prescribing such standards, the Secretary must consider all relevant, available motor vehicle safety information. 49 U.S.C. 30111(b). The Secretary must also consider whether a proposed standard is reasonable, practicable, and appropriate for the type of motor vehicle or motor vehicle equipment for which it is prescribed and the extent to which the standard will further the statutory purpose of reducing traffic accidents and deaths and injuries resulting from traffic accidents. Id. Responsibility for promulgation of Federal motor vehicle safety standards was subsequently delegated to NHTSA. 49 U.S.C. 105 and 322; delegation of authority at 49 CFR 1.50.

As a Federal agency, before promulgating changes to a Federal motor vehicle safety standard, NHTSA also has a statutory responsibility to follow the informal rulemaking procedures mandated in the Administrative Procedure Act at 5 U.S.C. Section 553. Among these requirements are Federal Register publication of a general notice of proposed rulemaking, and giving interested persons an opportunity to participate in the rulemaking through submission of written data, views or arguments. After consideration of the public comments, we must incorporate into the rules adopted, a concise general statement of the rule's basis and purpose.

The agency has carefully considered these statutory requirements in promulgating this final rule to amend FMVSS No. 101. As previously discussed in detail, we have solicited public comment in an NPRM and have carefully considered the public comments before issuing this final rule. As a result, we believe that this final rule reflects consideration of all relevant available motor vehicle safety information. Consideration of all these statutory factors has resulted in the following decisions in this final rule.

In the NPRM, we proposed to expand Tables 1 and 2 to make FMVSS No. 101 include the use of a graphic symbol set established by the International Standards Organization (ISO) specifically for controls and displays in motor vehicles, ISO 2575:2000, to make FMVSS No. 101 applicable to all “vehicles” of 4,536 kilograms (10,000 pounds) and greater, and to except multi-function controls and multi-task displays from the “on or adjacent to” requirement for identifying controls. Some commenters questioned the safety need to include all the ISO 2575:2000 symbols in FMVSS No. 101, and whether FMVSS No. 101 should be made applicable to vehicles of 4,536 kg GVWR and greater. In this final rule, NHTSA stated that after considering the comments, we have decided to retain the content of Tables 1 and 2 as specified in the current FMVSS No. 101, and to specify no others. However, we have decided to adopt the format of the tables proposed in the NPRM, to make identifiers easier to find in the tables. Therefore, in this final rule, for controls, telltales, and indicators, Table 1 specifies identifiers, color requirements and whether illumination is required for a control, telltale, or indicator, and specifies which have illumination or color requirements. Table 2 specifies identifiers for controls, telltales, and indicators other than those listed in Table 1. No color or illumination requirements are specified in Table 2.

We have also decided to extend the standard's telltale and indicator requirements to vehicles of 4,536 kg GVWRs and greater. We have also adopted a limited exclusion for multi-function controls and multi-task displays from FMVSS No. 101's “on or adjacent to” identification requirements for controls.

As indicated, we have thoroughly reviewed the public comments and adopted a final rule in light of comments. In the instances where we did not adopt a comment, we explain why we did not adopt the comment. We believe that this final rule amending FMVSS No. 101 meets the need for safety.

VII. Rulemaking Analyses and Notices

A. Executive Order 12866 and DOT Regulatory Policies and Procedures

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations or recipients thereof; or

(4) Raise novel legal or policy issues arising out of legal mandates, the President's priorities, or the principles set forth in the Executive Order.

We have considered the impact of this rulemaking action under Executive Order 12866 and the Department of Transportation's regulatory policies and procedures. This rulemaking document was not reviewed by the Office of Management and Budget under E.O. 12866, “Regulatory Planning and Review.” The rulemaking action is also not considered to be significant under the Department's Regulatory Policies and Procedures (44 FR 11034; February 26, 1979).

For the following reasons, NHTSA concludes that this final rule will not have any quantifiable cost effect on motor vehicle manufacturers. We believe that for vehicles of less than 4,536 kg GVWR, all vehicle manufacturers already identify each control, telltale or indicator provided in vehicles they manufacture, as specified in this final rule or in another Federal motor vehicle safety standard. For manufacturers of vehicles of 4,536 kg GVWR and over, in this final rule, we are providing approximately eight years of leadtime, which is enough time for manufacturers to make necessary vehicle changes that coincide with continuous design changes in the affected motor vehicles for future model years.

We believe that as a result of this final rule, vehicle manufacturers would include minimal costs to make the identifications meet FMVSS No. 101. Manufacturers of motor vehicles under 4,536 kg GVWR must already meet the requirements specified in the two tables in this final rule. This final rule removes a regulatory restriction (for multi-function controls) requiring identification “on or adjacent to” the controls. This final rule specifies the symbols that must be used to identify each control, telltale or indicator in a motor vehicle. This requirement applies only if that control, telltale or indicator were listed in one of the two tables in this final rule, or in another Federal motor vehicle safety standard.

Because the economic effects of this final rule are so minimal, no further regulatory evaluation is necessary.

B. Regulatory Flexibility Act

Pursuant to the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effect of the rule on small entities (i.e., small businesses, small organizations, and small governmental jurisdictions). The Small Business Administration's regulations at 13 CFR Part 121 define a small business, in part, as a business entity “which operates primarily within the United States.” (13 CFR § 121.105(a)). No regulatory flexibility analysis is required if the head of an agency certifies that the rule will not have a significant economic impact on a substantial number of small entities. The SBREFA amended the Regulatory Flexibility Act to require Federal agencies to provide a statement of the factual basis for certifying that a rule will not have a significant economic impact on a substantial number of small entities.

The Administrator has considered the effects of this rulemaking action under the Regulatory Flexibility Act (5 U.S.C. 601 et seq.) and certifies that this final rule will not have a significant economic impact on a substantial number of small entities. The statement of the factual basis for the certification is that for vehicles of less than 4,536 kg GVWR, all vehicle manufacturers (including small manufacturers) already identify each control, telltale or indicator provided in vehicles they manufacture, as specified in this final rule or in another Federal motor vehicle safety standard. For small manufacturers of vehicles of 4,536 kg GVWR and over, in this final rule, we are providing approximately eight years of leadtime, which is enough time for manufacturers to make necessary vehicle changes that coincide with continuous design changes in the affected motor vehicles for future model years. For manufacturers of motor vehicles with multi-function controls, we are relieving a regulatory restriction.

For these reasons, and for the reasons described in our discussion on Executive Order 12866 and DOT Regulatory Policies and Procedures, NHTSA concludes that this final rule will not have a significant economic impact on a substantial number of small entities.

C. National Environmental Policy Act

NHTSA has analyzed this rulemaking action for the purposes of the National Environmental Policy Act. The agency has determined that implementation of this action would not have any significant impact on the quality of the human environment.

D. Executive Order 13132 (Federalism)

Executive Order 13132 requires NHTSA to develop an accountable process to ensure “meaningful and timely input by State and local officials in the development of regulatory policies that have federalism implications.” The Executive Order defines “policies that have federalism implications” to include regulations that have “substantial direct effects on the States, on the relationship between the national government and the States, or on the distribution of power and responsibilities among the various levels of government.” Under Executive Order 13132, NHTSA may not issue a regulation with Federalism implications, that imposes substantial direct compliance costs, and that is not required by statute, unless the Federal government provides the funds necessary to pay the direct compliance costs incurred by State and local governments, or the agency consults with State and local officials early in the process of developing the regulation. NHTSA also may not issue a regulation with Federalism implications and that preempts State law unless the agency consults with State and local officials early in the process of developing the regulation.

NHTSA has analyzed this rulemaking action in accordance with the principles and criteria set forth in Executive Order 13132. The agency has determined that this rule will not have sufficient federalism implications to warrant consultation with State and local officials or the preparation of a federalism summary impact statement. This rule will not have any substantial effects on the States, or on the current Federal-State relationship, or on the current distribution of power and responsibilities among the various local officials. The reason is that this final rule applies to motor vehicle manufacturers, and not to the States or local governments. Thus, the requirements of Section 6 of the Executive Order do not apply.

E. Executive Order 12988 (Civil Justice Reform)

Pursuant to Executive Order 12988 “Civil Justice Reform,” we have considered whether this final rule would have any retroactive effect. NHTSA concludes that this final rule will not have any retroactive effect. Under 49 U.S.C. 30103, whenever a Federal motor vehicle safety standard is in effect, a State may not adopt or maintain a safety standard applicable to the same aspect of performance which is not identical to the Federal standard, except to the extent that the state requirement imposes a higher level of performance and applies only to vehicles procured for the State's use. 49 U.S.C. 30161 sets forth a procedure for judicial review of final rules establishing, amending, or revoking Federal motor vehicle safety standards. That section does not require submission of a petition for reconsideration or other administrative proceedings before parties may file suit in court.

F. Paperwork Reduction Act

Under the Paperwork Reduction Act of 1995, a person is not required to respond to a collection of information by a Federal agency unless the collection displays a valid Office of Management and Budget (OMB) control number. This final rule does not require any collections of information, or recordkeeping or retention requirements as defined by the OMB in 5 CFR Part 1320.

G. National Technology Transfer and Advancement Act

Section 12(d) of the National Technology Transfer and Advancement Act of 1995 (NTTAA), Public Law 104-113, section 12(d) (15 U.S.C. 272) directs NHTSA to use voluntary consensus standards in its regulatory activities unless doing so would be inconsistent with applicable law or otherwise impractical. Voluntary consensus standards are technical standards (e.g., materials specifications, test methods, sampling procedures, and business practices) that are developed or adopted by voluntary consensus standards bodies, such as the Society of Automotive Engineers (SAE). The NTTAA directs the agency to provide Congress, through the OMB, explanations when we decide not to use available and applicable voluntary consensus standards.

After conducting a search of available sources, we have determined that there is an applicable voluntary consensus standard. That standard is the International Standards Organization's (ISO) Standard 2575:2000. We are using some of the symbols from that Standard in Table 1 and Table 2 of this final rule.

H. Unfunded Mandates Reform Act

Section 202 of the Unfunded Mandates Reform Act of 1995 (UMRA) requires Federal agencies to prepare a written assessment of the costs, benefits, and other effects of proposed or final rules that include a Federal mandate likely to result in the expenditure by State, local or tribal governments, in the aggregate, or by the private sector, of more than $100 million in any one year (adjusted for inflation with base year of 1995). Before promulgating a rule for which a written statement is needed, section 205 of the UMRA generally requires NHTSA to identify and consider a reasonable number of regulatory alternatives and adopt the least costly, most cost-effective, or least burdensome alternative that achieves the objectives of the rule. The provisions of section 205 do not apply when they are inconsistent with applicable law. Moreover, section 205 allows NHTSA to adopt an alternative other than the least costly, most cost-effective or least burdensome alternative if the agency publishes with the final rule an explanation why that alternative was not adopted.

This rule will not result in the expenditure by State, local, or tribal governments, in the aggregate, or by the private sector of more than $100 million annually. Accordingly, this rule is not subject to the requirements of sections 202 and 205 of the UMRA.

I. Plain Language

Executive Order 12866 requires each agency to write all rules in plain language. Application of the principles of plain language includes consideration of the following questions:

—Have we organized the material to suit the public's needs?

—Are the requirements in the rule clearly stated?

—Does the rule contain technical language or jargon that is not clear?

—Would a different format (grouping and order of sections, use of headings, paragraphing) make the rule easier to understand?

—Would more (but shorter) sections be better?

—Could we improve clarity by adding tables, lists, or diagrams?

—What else could we do to make this rulemaking easier to understand?

We have solicited comments on the Plain Language implications of the NPRM in the Federal Register document of September 23, 2003 (68 FR 55217) on p. 55225. We received no comments on the Plain Language issue.

J. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

List of Subjects in 49 CFR Part 571

Imports, Motor vehicle safety, Motor vehicles, Rubber and rubber products, and Tires.

In consideration of the foregoing, NHTSA amends 49 CFR part 571 as follows:

PART 571—FEDERAL MOTOR VEHICLE SAFETY STANDARDS

1. The authority citation for part 571 continues to read as follows:

Authority: 49 U.S.C. 322, 30111, 30115, 30166, and 30177; delegation of authority at 49 CFR 1.50.

2. Section 571.101 is revised to read as follows:

§ 571.101 Standard No. 101, Controls, telltales, and indicators.

S1. Scope. This standard specifies performance requirements for location, identification, color, and illumination of motor vehicle controls, telltales and indicators.

S2. Purpose. The purpose of this standard is to ensure the accessibility, visibility and recognition of motor vehicle controls, telltales and indicators, and to facilitate the proper selection of controls under daylight and nighttime conditions, in order to reduce the safety hazards caused by the diversion of the driver's attention from the driving task, and by mistakes in selecting controls.

S3. Application. This standard applies to passenger cars, multipurpose passenger vehicles, trucks, and buses.

S4. Definitions.

Adjacent, with respect to a control, telltale or indicator, and its identifier means:

(a) The identifier is in close proximity to the control, telltale or indicator; and

(b) No other control, telltale, indicator, identifier or source of illumination appears between the identifier and the telltale, indicator, or control that the identifier identifies.

Common space means an area on which more than one telltale, indicator, identifier, or other message may be displayed, but not simultaneously.

Control means the hand-operated part of a device that enables the driver to change the state or functioning of the vehicle or a vehicle subsystem.

Indicator means a device that shows the magnitude of the physical characteristics that the instrument is designed to sense.

Identifier means a symbol, word, or words used to identify a control, telltale, or indicator.

Multi-function control means a control through which the driver may select, and affect the operation of, more than one vehicle function.

Multi-task display means a display on which more than one message can be shown simultaneously.

Telltale means an optical signal that, when illuminated, indicates the actuation of a device, a correct or improper functioning or condition, or a failure to function.

S5. Requirements. Each passenger car, multipurpose passenger vehicle, truck and bus that is fitted with a control, a telltale or an indicator listed in Table 1 or Table 2 must meet the requirements of this standard for the location, identification, color, and illumination of that control, telltale or indicator. However, the requirements for telltales and indicators do not apply to vehicles with GVWRs of 4,536 kg or greater if these specified vehicles are manufactured before September 1, 2013.

S5.1 Location

S5.1.1 The controls listed in Table 1 and in Table 2 must be located so they are operable by the driver under the conditions of S5.6.2.

S5.1.2 The telltales and indicators listed in Table 1 and Table 2 and their identification must be located so that, when activated, they are visible to a driver under the conditions of S5.6.1 and S5.6.2.

S5.1.3 Except as provided in S5.1.4, the identification for controls, telltales and indicators must be placed on or adjacent to the telltale, indicator or control that it identifies.

S5.1.4 The requirement of S5.1.3 does not apply to a multi-function control, provided the multi-function control is associated with a multi-task display that:

(a) Is visible to the driver under the conditions of S5.6.1 and S5.6.2,

(b) Identifies the multi-function control with which it is associated graphically or using words,

(c) For multi-task displays with layers, identifies on the top-most layer each system for which control is possible from the associated multi-function control, including systems not otherwise regulated by this standard. Subfunctions of the available systems need not be shown on the top-most layer of the multi-task display, and

(d) Identifies the controls of Table 1 and Table 2 with the identification specified in those tables or otherwise required by this standard, whenever those are the active functions of the multi-function control. For lower levels of multi-task displays with layers, identification is permitted but not required for systems not otherwise regulated by this standard.

(e) Does not display telltales listed in Table 1 or Table 2.

S5.2 Identification

S5.2.1 Except for the Low Tire Pressure Telltale, each control, telltale and indicator that is listed in column 1 of Table 1 or Table 2 must be identified by the symbol specified for it in column 2 or the word or abbreviation specified for it in column 3 of Table 1 or Table 2. If a symbol is used, each symbol provided pursuant to this paragraph must have the proportional dimensional characteristics of the symbol as it appears in Table 1 or Table 2. The Low Tire Pressure Telltale (either the display identifying which tire has low pressure or the display which does not identify which tire has low pressure) shall be identified by the appropriate symbol designated in column 4, or both the symbol in column 4 and the words in column 3. No identification is required for any horn (i.e., audible warning signal) that is activated by a lanyard or for a turn signal control that is operated in a plane essentially parallel to the face plane of the steering wheel in its normal driving position and which is located on the left side of the steering column so that it is the control on that side of the column nearest to the steering wheel face plane.

S5.2.2 Any symbol, word, or abbreviation not shown in Table 1 or Table 2 may be used to identify a control, a telltale or an indicator that is not listed in those tables.

S5.2.3 Supplementary symbols, words, or abbreviations may be used at the manufacturer's discretion in conjunction with any symbol, word, or abbreviation specified in Table 1 or Table 2.

S5.2.4 [Reserved]

S5.2.5 A single symbol, word, or abbreviation may be used to identify any combination of the control, indicator, and telltale for the same function.

S5.2.6 Except as provided in S5.2.7, all identifications of telltales, indicators and controls listed in Table 1 or Table 2 must appear to the driver to be perceptually upright. A rotating control that has an “off” position shall appear to the driver perceptually upright when the rotating control is in the “off” position.

S5.2.7 The identification of the following items need not appear to the driver to be perceptually upright:

(a) A horn control;

(b) Any control, telltale or indicator located on the steering wheel, when the steering wheel is positioned for the motor vehicle to travel in a direction other than straight forward; and

(c) Any rotating control that does not have an “off” position.

S5.2.8 Each control for an automatic vehicle speed system (cruise control) and each control for heating and air conditioning systems must have identification provided for each function of each such system.

S5.2.9 Each control that regulates a system function over a continuous range must have identification provided for the limits of the adjustment range of that function. If color coding is used to identify the limits of the adjustment range of a temperature function, the hot limit must be identified by the color red and the cold limit by the color blue. If the status or limit of a function is shown by a display not adjacent to the control for that function, both the control (unless it is a multi-function control complying with S5.1.4) and the display must be independently identified as to the function of the control, in compliance with S5.2.1, on or adjacent to the control and on or adjacent to the display.

Example 1. A slide lever controls the temperature of the air in the vehicle heating system over a continuous range, from no heat to maximum heat. Since the control regulates a single function over a quantitative range, only the extreme positions require identification.

Example 2. A switch has three positions, for heat, defrost, and air conditioning. Since each position regulates a different function, each position must be identified.

S5.3 Illumination

S5.3.1 Timing of illumination

(a) Except as provided in S5.3.1(c), the identifications of controls for which the word “Yes” is specified in column 5 of Table 1 must be capable of being illuminated whenever the headlamps are activated. This requirement does not apply to a control located on the floor, floor console, steering wheel, steering column, or in the area of windshield header, or to a control for a heating and air-conditioning system that does not direct air upon the windshield.

(b) Except as provided in S5.3.1(c), the indicators and their identifications for which the word “Yes” is specified in column 5 of Table 1 must be illuminated whenever the vehicle's propulsion system and headlamps are activated.

(c) The indicators, their identifications and the identifications of controls need not be illuminated when the headlamps are being flashed or operated as daytime running lamps.

(d) At the manufacturer's option, any control, indicator, or their identifications may be capable of being illuminated at any time.

(e) A telltale must not emit light except when identifying the malfunction or vehicle condition it is designed to indicate, or during a bulb check.

S5.3.2 Brightness of illumination of controls and indicators

S5.3.2.1 Means must be provided for illuminating the indicators, identifications of indicators and identifications of controls listed in Table 1 to make them visible to the driver under daylight and nighttime driving conditions.

S5.3.2.2 The means of providing the visibility required by S5.3.2.1:

(a) Must be adjustable to provide at least two levels of brightness;

(b) At the lower level of brightness, the identification of controls and indicators must be barely discernible to the driver who has adapted to dark ambient roadway condition;

(c) May be operable manually or automatically; and

(d) May have levels of brightness at which those items and identification are not visible.

(1) If the level of brightness is adjusted by automatic means to a point where those items or their identification are not visible to the driver, means shall be provided to enable the driver to restore visibility.

S5.3.3 Brightness of telltale illumination

(a) Means must be provided for illuminating telltales and their identification sufficiently to make them visible to the driver under daylight and nighttime driving conditions.

(b) The means for providing the required visibility may be adjustable manually or automatically, except that the telltales and identification for brakes, highbeams, turn signals, and safety belts may not be adjustable under any driving condition to a level that is invisible.

S5.3.4 Brightness of interior lamps

Any source of illumination that is:

(a) Within the passenger compartment of a motor vehicle;

(b) Located in front of a transverse vertical plane 110 mm behind the H-point of the driver's seat while in its rearmost driving position;

(c) Capable of being activated while the motor vehicle is in motion; and

(d) Neither a telltale nor a source of illumination used for the controls and indicators listed in Table 1 or Table 2, must have a means for the driver to turn off that source under the conditions of S5.6.2.

S5.3.5 The provisions of S5.3.4 do not apply to buses that are normally operated with the passenger compartment illuminated.

S5.4 Color

S5.4.1 The light of each telltale listed in Table 1 must be of the color specified for that telltale in column 6 of that table.

S5.4.2 Any indicator or telltale not listed in Table 1 and any identification of that indicator or telltale must not be a color that masks the driver's ability to recognize any telltale, control, or indicator listed in Table 1.

S5.4.3 Each symbol used for the identification of a telltale, control or indicator must be in a color that stands out clearly against the background.

S5.4.4 The filled-in part of any symbol in Table 1 or Table 2 may be replaced by its outline and the outline of any symbol in Table 1 or Table 2 may be filled in.

S5.5 Common space for displaying multiple messages

S5.5.1 A common space may be used to show messages from any sources, subject to the requirements in S5.5.2 through S5.5.6.

S5.5.2 The telltales for any brake system malfunction, the air bag malfunction, the side air bag malfunction, low tire pressure, passenger air bag off, high beam, turn signal, and seat belt must not be shown in the same common space.

S5.5.3 The telltales and indicators that are listed in Table 1 and are shown in the common space must illuminate at the initiation of any underlying condition.

S5.5.4 Except as provided in S5.5.5, when the underlying conditions exist for actuation of two or more telltales, the messages must be either:

(a) Repeated automatically in sequence, or

(b) Indicated by visible means and capable of being selected for viewing by the driver under the conditions of S5.6.2.

S5.5.5 In the case of the telltale for a brake system malfunction, air bag malfunction, side air bag malfunction, low tire pressure, passenger air bag off, high beam, turn signal, or seat belt that is designed to display in a common space, that telltale must displace any other symbol or message in that common space while the underlying condition for the telltale's activation exists.

S5.5.6(a) Except as provided in S5.5.6(b), messages displayed in a common space may be cancelable automatically or by the driver.

(b) Telltales for high beams, turn signal, low tire pressure, and passenger air bag off, and telltales for which the color red is required in Table 1 must not be cancelable while the underlying condition for their activation exists.

S5.6 Conditions

S5.6.1 The driver has adapted to the ambient light roadway conditions.

S5.6.2 The driver is restrained by the seat belts installed in accordance with 49 CFR 571.208 and adjusted in accordance with the vehicle manufacturer's instructions.

BILLING CODE 4910-59-P

Issued on: August 11, 2005.
Jacqueline Glassman,
Deputy Administrator.

[FR Doc. 05-16325 Filed 8-16-05; 8:45 am]

BILLING CODE 4910-59-C